DEPARTMENT OF COMMERCE

National Oceanic and Atmospheric Administration

50 CFR Parts 223 and 226

[Docket No. 210303-0035]

RIN 0648-BC56

Endangered and Threatened Species; Designation of Critical Habitat for the Arctic Subspecies of the Ringed Seal; Extension of Public Comment Period

AGENCY: National Marine Fisheries Service (NMFS), National Oceanic and Atmospheric Administration (NOAA), Commerce.

ACTION: Proposed rule; extension of comment period.

SUMMARY: NMFS hereby extends the public comment period by 30 days for the revised proposed rule, published in the Federal Register on January 8, 2021, to designate critical habitat for the threatened Arctic subspecies of the ringed seal (Pusa hispida hispida) under the Endangered Species Act (ESA). The end of the public comment period is extended from March 9, 2021, to April 8, 2021.

DATES: The comment period for the revised notice of proposed rulemaking published at 86 FR 1452 is extended by 30 days to April 8, 2021.

ADDRESSES: You may submit data, information, or comments regarding the revised proposed rule to designate critical habitat for the Arctic ringed seal, identified by NOAA-NMFS-2013-0114, by either of the following methods:

• Electronic Submission: Submit all electronic comments via the Federal eRulemaking Portal. Go to www.regulations.gov and enter NOAA-NMFS-2013-0114 in the Search box. Click on the “Comment” icon, complete the required fields, and enter or attach your comments.

• Mail: Submit written comments to Jon Kurland, Assistant Regional Administrator for Protected Resources, Alaska Region NMFS, Attn: Records Office, P.O. Box 21668, Juneau, AK 99082-1668.

Instructions: NMFS may not consider comments sent by any other method, to any other address or individual, or received after the end of the comment period. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

The revised proposed rule and supporting documents are available at www.regulations.gov, and on the NMFS website at www.fisheries.noaa.gov/action/designation-critical-habitat-arctic-subspecies-ringed-seal.

FOR FURTHER INFORMATION CONTACT: Tammy Olson, NMFS Alaska Region, (907) 271-2373; or Jon Kurland, NMFS Alaska Region, (907) 586-7638.

SUPPLEMENTARY INFORMATION: On January 8, 2021, NMFS published a revised proposed rule to designate critical habitat for the threatened Arctic ringed seal under the ESA (86 FR 1452). The proposed designation comprises an area of marine habitat in the northern Bering, Chukchi, and Beaufort seas. An area north of the Beaufort Sea shelf is proposed for exclusion from the proposed designation based on national security impacts. The revised proposed rule opened a 60-day public comment period to end on March 9, 2021. NMFS received two requests to extend the comment period in order to provide additional time to prepare comments in a thorough manner. We considered the requests and concluded that we can accommodate a 30-day extension of the comment period for the revised proposed rule without significantly delaying the completion of the final rule. We are therefore extending the comment period for the revised proposed rule by 30 days to April 8, 2021.

Authority: 16 U.S.C. 1531 et seq.

Dated: March 3, 2021.
Samuel D. Rauch III,
Deputy Assistant Administrator for Regulatory Programs, National Marine Fisheries Service.

[FR Doc. 2021-04819 Filed 3-8-21; 8:45 am]

BILLING CODE 3510-22-P